DEPARTMENT OF THE INTERIOR

Fish & Wildlife Service

Hanford Reach National Monument Federal Advisory Committee; Meeting Notice

AGENCY: Fish and Wildlife Service.

ACTION: Notice; FACA meeting.

SUMMARY: The Hanford Reach National Monument Federal Advisory Committee will conduct a meeting on Wednesday, February 6, 2002 from 8:30 am to 12:30 pm in the Consolidated Information Center (CIC)/Library, rooms 120 and 120A on the Washington State University, Tri-Cities campus, 2770 University Dr., Richland, WA. The meeting is open to the public and media.

DATES: Verbal comments will be considered during the course of the meeting and written comments will be accepted that are submitted by the close of the meeting.

ADDRESSES: Any member of the public wishing to submit written comments should send those to Mr. Greg Hughes, Designated Federal Officer for the Hanford Reach National Monument (HRNM) Federal Advisory Committee, Hanford Reach National Monument/Saddle Mountain National Wildlife Refuge, 3250 Port of Benton Blvd., Richland, WA 99352; fax (509) 375-0196. Copies of the draft meeting agenda can be obtained from the Designated Federal Officer.

FOR FURTHER INFORMATION CONTACT: Any member of the public wishing further information concerning the meeting should contact Mr. Greg Hughes, Designated Federal Official for the Hanford Reach National Monument (HRNM) FAC; phone (509) 371-1801, fax (509) 375-0196.

SUPPLEMENTARY INFORMATION: The Hanford Reach National Monument Federal Advisory Committee will review and augment their issues grouping topics as well as identify subcommittees and formulate rules to focus on specific areas.

Dated: January 8, 2002.
Greg Hughes,
Project Leader, Hanford Reach National Monument.

[FR Doc. 02-952 Filed 1-14-02; 8:45 am]

BILLING CODE 4310-55-P